DEPARTMENT OF ENERGY

Federal Energy Regulatory Commission

[Docket No. CP21-6-000]

Spire Storage West, LLC; Notice of Availability of the Draft Environmental Impact Statement for the Proposed Clear Creek Expansion Project

The staff of the Federal Energy Regulatory Commission (FERC or Commission) has prepared a draft environmental impact statement (EIS) for the Clear Creek Expansion Project, proposed by Spire Storage West, LLC (Spire) in the above-referenced docket. Spire requests authorization to construct, expand, and operate natural gas transmission and storage facilities at Spire's existing Clear Creek Storage Field in order to increase the certificated gas capacities from 4.0 billion cubic feet (Bcf) to 20 Bcf, and increase the maximum daily injection and withdrawal capacities. Spire would also construct 10.6 miles of 20- and 24-inch-diameter pipeline to connect with the Canyon Creek Plant and the Kern River Gas Transmission mainline, and to reconnect with the Questar Pipeline at the Clear Creek Plant in Uinta County, Wyoming.

The draft EIS assesses the potential environmental effects of the construction and operation of the Clear Creek Expansion Project in accordance with the requirements of the National Environmental Policy Act (NEPA). The FERC staff concludes that approval of the proposed project, with the mitigation measures recommended in the EIS, would not result in significant environmental impacts, with the exception of climate change impacts. FERC staff continues to be unable to determine significance with regards to climate change impacts. Most adverse environmental impacts would be temporary or short-term during construction and have minimal effects on existing land use, as the proposed facilities would be added within an area already characterized by energy production and transmission facilities.

The U.S. Bureau of Land Management participated as a cooperating agency in the preparation of the EIS. Cooperating agencies have jurisdiction by law or special expertise with respect to resources potentially affected by the proposal and participate in the NEPA analysis. The U.S. Bureau of Land Management will adopt and use the EIS to satisfy its requirements under NEPA as part of Spire's application. Section 28 of the Mineral Leasing Act authorizes the BLM to issue a Right-of-Way Grant, Application for Permits to Drill, and Temporary Use Permits for the portions of the Project that would encroach on any federal lands in the Project area. Although the cooperating agency provided input to the conclusions and recommendations presented in the draft EIS, the agency will present its own conclusions and recommendations in its respective Record of Decision for the project.

The draft EIS addresses the potential environmental effects of the construction and operation of the following project facilities:

• Four compressor units at the Clear Creek Plant;

• a tank storage and natural gas liquids fueling equipment facility on an existing pad;

• 11 new injection/withdrawal wells, one new water disposal well, and associated lines;

• approximately 7.0 miles of 20-inch-diameter pipeline;

• approximately 3.6 miles of 24-inch diameter pipeline; and

• approximately 3.5 miles of 4,160-volt powerline; and other related appurtenances.

The Commission mailed a copy of the Notice of Availability to federal, state, and local government representatives and agencies; elected officials; environmental and public interest groups; Native American tribes; potentially affected landowners and other interested individuals and groups; and newspapers and libraries in the project area. The draft EIS is only available in electronic format. It may be viewed and downloaded from the FERC's website (www.ferc.gov), on the natural gas environmental documents page (https://www.ferc.gov/industries-data/natural-gas/environment/environmental-documents). In addition, the draft EIS may be accessed by using the eLibrary link on the FERC's website. Click on the eLibrary link (https://elibrary.ferc.gov/eLibrary/search) select “General Search” and enter the docket number in the “Docket Number” field, excluding the last three digits (i.e., CP21-6). Be sure you have selected an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Any person wishing to comment on the draft EIS may do so. Your comments should focus on draft EIS's disclosure and discussion of potential environmental effects, measures to avoid or lessen environmental impacts, and the completeness of the submitted alternatives, information and analyses. To ensure consideration of your comments on the proposal in the final EIS, it is important that the Commission receive your comments on or before 5:00pm Eastern Time on December 20, 2021.

For your convenience, there are three methods you can use to submit your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; or

(3) You can file a paper copy of your comments by mailing them to the Commission. Be sure to reference the project docket number (CP21-6-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Any person seeking to become a party to the proceeding must file a motion to intervene pursuant to Rule 214 of the Commission's Rules of Practice and Procedures (18 CFR part 385.214). Motions to intervene are more fully described at https://www.ferc.gov/ferc-online/ferc-online/how-guides. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: October 27, 2021.
Kimberly D. Bose,
Secretary.

[FR Doc. 2021-23859 Filed 11-1-21; 8:45 am]

BILLING CODE 6717-01-P